POSTAL REGULATORY COMMISSION

[Docket No. CP2014-52; Order No. 2090]

New Postal Product

AGENCY: Postal Regulatory Commission.

ACTION: Notice.

SUMMARY: The Commission is noticing a recent Postal Service filing announcing its intention to change rates for Inbound Air Parcel Post (at Universal Postal Union (UPU) Rates). This notice informs the public of the filing, invites public comment, and takes other administrative steps.

DATES: Comments are due: June 20, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

Notice of filing. On June 11, 2014, the Postal Service filed a notice pursuant to 39 CFR 3015.5, announcing its intention to change rates for Inbound Air Parcel Post (at Universal Postal Union (UPU) Rates) effective July 1, 2014.¹ Notice at 1. The Notice does not include any classification changes. Id. at 2. The timing of the filing comports with a requirement that notice of this type of change be submitted at least 15 days before the effective date. See 39 CFR 3015.5.

¹ Notice of the United States Postal Service of Filing Changes in Rates Not of General Applicability for Inbound Air Parcel Post, June 11, 2014 (Notice).

II. Contents of Filing

To accompany its Notice, the Postal Service filed the following attachments:

• Attachment 1—an application for non-public treatment of material filed under seal;

• Attachment 2—a redacted copy of Governors' Decision No. 09-15;

• Attachment 3—a redacted copy of the new rates; and

• Attachment 4—a copy of the certification required under 39 CFR 3015.5(c)(2).

Id. at 2.

The Postal Service filed a redacted version of the sealed financial documents in a public Excel file. Id. The material filed under seal consists of unredacted copies of Governors' Decision No. 09-15, the new rates, and related financial information.² Id. at 3.

² Governors' Decision No. 09-15 was filed, and remains, under seal in Docket Nos. MC2010-11 and CP2010-11. See id. at 1, n.1.

Classification and rates. The Notice incorporates by reference previous explanations concerning (1) the UPU Postal Operations Council's mechanism for setting base rates for Inbound Air Parcel Post, and (2) the formal nature of the Governors' Decision establishing those rates for purposes of statutory compliance.³ Id. at 2. The Postal Service asserts that the prices comport with Governors' Decision No. 09-15 as they are the highest possible inward land rates that the Postal Service is eligible for based on inflation increases and other factors. Id. at 2-3. It also asserts that it has met its burden of providing notice to the Commission of changed rates within the scope of Governors' Decision No. 09-15, as required by 39 U.S.C. 3632(b)(3). Id. at 3.

³ Article RC 193.3 allows modifications to the bonus payment portion of inward land rates to be implemented twice each year on January 1 and July 1. The UPU's International Bureau will confirm to all designated operators by March 31 any changes to the inward land rates that apply beginning July 1 of that same year. See id. at 2, n.3.

III. Commission Action

The Commission establishes Docket No. CP2014-52 for consideration of matters raised in the Notice. Interested persons may submit comments on whether the Agreement is consistent with the requirements of 39 CFR 3015.5 and the policies of 39 U.S.C. 3632 and 3633. Comments are due no later than June 20, 2014. The public portions of the Postal Service's filing can be accessed via the Commission's Web site at http://www.prc.gov. Information on how to obtain access to nonpublic material appears at 39 CFR Part 3007. The Commission appoints Lyudmila Bzhilyanskaya to represent the interests of the general public (Public Representative) in this case.

IV. Ordering Paragraphs

It is ordered:

1. The Commission establishes Docket No. CP2014-52 for consideration of matters raised in the Postal Service's Notice.

2. Pursuant to 39 U.S.C. 505, the Commission designates Lyudmila Bzhilyanskaya to serve as an officer of the Commission (Public Representative) to represent the interests of the general public in this proceeding.

3. Comments are due no later than June 20, 2014.

4. The Secretary shall arrange for publication of this order in the Federal Register.

By the Commission.
Ruth Ann Abrams,
Acting Secretary.

[FR Doc. 2014-14279 Filed 6-18-14; 8:45 am]

BILLING CODE 7710-FW-P